ENVIRONMENTAL PROTECTION AGENCY

[FRL-9622-4]

National Advisory Council for Environmental Policy and Technology

AGENCY: Environmental Protection Agency (EPA).

ACTION: Notice of advisory committee teleconference.

SUMMARY: Under the Federal Advisory Committee Act, Public Law 92463, EPA gives notice of a public teleconference of the National Advisory Council for Environmental Policy and Technology (NACEPT). NACEPT provides advice to the EPA Administrator on a broad range of environmental policy, technology, and management issues. NACEPT members represent academia, industry, non-governmental organizations, and local, state, and tribal governments. The purpose of this teleconference is for NACEPT to discuss and approve draft advice letters addressing two topics: (1) The need for technologies that can help address environmental problems experienced by environmental justice communities and other vulnerable populations, and (2) leadership development and organizational transformation at EPA. A copy of the agenda for the meeting will be posted at http://www.epa.gov/ofacmo/nacept/cal-nacept.htm.

DATES: NACEPT will hold a public teleconference on Tuesday, January 31, 2012, from 3 p.m. to 6 p.m. Eastern Standard Time. Due to logistical complications, EPA is announcing the meeting with less than 15 days public notice.

ADDRESSES: The meeting will be held in the U.S. EPA East Building, 1201 Constitution Ave. NW., Room 1132, Washington, DC 20004.

FOR FURTHER INFORMATION CONTACT: Eugene Green, Acting Designated Federal Officer, green.eugene@epa.gov, (202) 564-2432, U.S. EPA, Office of Federal Advisory Committee Management and Outreach (1601M), 1200 Pennsylvania Avenue NW., Washington, DC 20460.

SUPPLEMENTARY INFORMATION: Requests to make oral comments or to provide written comments to NACEPT should be sent to Eugene Green at green.eugene@epa.gov by Wednesday, January 25, 2012. The meeting is open to the public, with limited seating on a first-come, first-served basis. Members of the public wishing to participate in the teleconference should contact Eugene Green at green.eugene@epa.gov or (202) 564-2432 by January 25, 2012.

Meeting Access: Concerns regarding accessibility and/or accommodations for individuals with disabilities, should be directed to Eugene Green at green.eugene@epa.gov or (202) 564-2432. To ensure adequate time for processing, please make requests for accommodations at least 10 days prior to the meeting.

Dated: January 18, 2012.
Eugene Green,
Acting Designated Federal Officer.

[FR Doc. 2012-1527 Filed 1-20-12; 4:15 pm]

BILLING CODE 6560-50-P